DEPARTMENT OF ENERGY

Office of Arms Control and Nonproliferation; Proposed Subsequent Arrangement

AGENCY: Department of Energy.

ACTION: Subsequent arrangement.

SUMMARY: This notice is being issued under the authority of section 131 of the Atomic Energy Act of 1954, as amended (42 U.S.C. 2160). The Department is providing notice of a proposed “subsequent arrangement” under the Agreement for Cooperation Concerning Civil Uses of Atomic Energy Between the United States and Canada and the Agreement for Cooperation Between the United States and Japan Concerning Peaceful Uses of Nuclear Energy.

This subsequent arrangement concerns the retransfer of 3,700 kg of U.S.-origin natural uranium in the form of uranium dioxide from the Cameco Corporation, Ontario, Canada to the Japan Nuclear Fuel Co. (JNFC) for fabrication into blanket fuel pellets by JNFC. The material will be used as fuel by the Tokyo Electric Power Company. The uranium dioxide was originally transferred to the Cameco Corp. from Uranium Resources Inc. pursuant to export license number XSOU8726.

In accordance with section 131 of the Atomic Energy Act of 1954, as amended, we have determined that this subsequent arrangement will not be inimical to the common defense and security.

This subsequent arrangement will take effect no sooner than fifteen days after the date of publication of this notice.

Dated: August 9, 2000.
For the Department of Energy.
Trisha Dedik,
Director, International Policy and Analysis for Arms Control and Nonproliferation, Office of Defense Nuclear Nonproliferation.

[FR Doc. 00-20658 Filed 8-14-00; 8:45 am]

BILLING CODE 6450-01-P